DEPARTMENT OF ENERGY

Federal Energy Regulatory Commission

Combined Notice of Filings

Take notice that the Commission has received the following Natural Gas Pipeline Rate and Refund Report filings:

Filings Instituting Proceedings

Docket Numbers: RP17-21-000.

Applicants: Algonquin Gas Transmission, LLC.

Description: Algonquin Gas Transmission, LLC submits tariff filing per: AIM West Roxbury Lateral Notice of Commencement of Service to be effective N/A.

Filed Date: 12/16/16.

Accession Number: 20161216-5056.

Comments Due: 5 p.m. ET 12/28/16.

Docket Numbers: RP17-265-000.

Applicants: Iroquois Gas Transmission System, L.P.

Description: Iroquois Gas Transmission System, L.P. submits tariff filing per 154.204: 12/16/16 Negotiated Rates—Consolidated Edison Energy Inc. (HUB) 2275-89 to be effective 12/15/2016.

Filed Date: 12/16/16.

Accession Number: 20161216-5061.

Comments Due: 5 p.m. ET 12/28/16.

Docket Numbers: RP17-266-000.

Applicants: Iroquois Gas Transmission System, L.P.

Description: Iroquois Gas Transmission System, L.P. submits tariff filing per 154.204: 12/16/16 Negotiated Rates—Hartree Partners, LP (HUB) 7090-89 to be effective 12/15/2016

Filed Date: 12/16/16.

Accession Number: 20161216-5064.

Comments Due: 5 p.m. ET 12/28/16.

Docket Numbers: RP17-267-000.

Applicants: Iroquois Gas Transmission System, L.P.

Description: Iroquois Gas Transmission System, L.P. submits tariff filing per 154.204: 12/16/16 Negotiated Rates—Mercuria Energy America, Inc. (HUB)—7540-89 to be effective 12/15/2016.

Filed Date: 12/16/16.

Accession Number: 20161216-5066.

Comments Due: 5 p.m. ET 12/28/16.

Docket Numbers: RP17-268-000.

Applicants: Iroquois Gas Transmission System, L.P.

Description: Iroquois Gas Transmission System, L.P. submits tariff filing per 154.204: 12/16/16—Multi Shipper Contracts to be effective 2/14/2017.

Filed Date: 12/16/16.

Accession Number: 20161216-5126.

Comments Due: 5 p.m. ET 12/28/16.

Docket Numbers: RP17-269-000.

Applicants: NGO Transmission, Inc.

Description: NGO Transmission, Inc. submits tariff filing per 154.204: Negotiated Rate Filing to be effective 1/1/2017.

Filed Date: 12/19/16.

Accession Number: 20161219-5092.

Comments Due: 5 p.m. ET 1/3/17.

Docket Numbers: RP17-270-000.

Applicants: Iroquois Gas Transmission System, L.P.

Description: Iroquois Gas Transmission System, L.P. submits tariff filing per 154.204: 12/19/16 Negotiated Rates—Consolidated Edison Energy Inc. (HUB) 2275-89 to be effective 12/16/2016.

Filed Date: 12/19/16.

Accession Number: 20161219-5159.

Comments Due: 5 p.m. ET 1/3/17.

Docket Numbers: RP17-271-000.

Applicants: Iroquois Gas Transmission System, L.P.

Description: Iroquois Gas Transmission System, L.P. submits tariff filing per 154.204: 12/19/16 Negotiated Rates—Hartree Partners, LP (HUB) 7090-89 to be effective 12/16/2016.

Filed Date: 12/19/16.

Accession Number: 20161219-5161.

Comments Due: 5 p.m. ET 1/3/17.

Docket Numbers: RP17-272-000.

Applicants: Iroquois Gas Transmission System, L.P.

Description: Iroquois Gas Transmission System, L.P. submits tariff filing per 154.204: 12/19/16 Negotiated Rates—Mercuria Energy America, Inc. (HUB) 7540-89 to be effective 12/16/2016.

Filed Date: 12/19/16.

Accession Number: 20161219-5163.

Comments Due: 5 p.m. ET 1/3/17.

Docket Numbers: RP17-273-000.

Applicants: Alliance Pipeline L.P.

Description: Alliance Pipeline L.P. submits tariff filing per 154.204: J. Aron Temporary Negotiated Rate Contracts to be effective 12/1/2016.

Filed Date: 12/19/16.

Accession Number: 20161219-5222.

Comments Due: 5 p.m. ET 1/3/17.

Docket Numbers: RP17-274-000.

Applicants: El Paso Natural Gas Company, L.L.C.

Description: El Paso Natural Gas Company, L.L.C. submits tariff filing per 154.204: Housekeeping Matters to be effective 1/18/2017.

Filed Date: 12/19/16.

Accession Number: 20161219-5359.

Comments Due: 5 p.m. ET 1/3/17.

Docket Numbers: RP17-275-000.

Applicants: Iroquois Gas Transmission System, L.P.

Description: Iroquois Gas Transmission System, L.P. submits tariff filing per 154.204: 12/20/16 Negotiated Rates—Consolidated Edison Energy Inc. (HUB) 2275-89 to be effective 12/19/2016.

Filed Date: 12/20/16.

Accession Number: 20161220-5115.

Comments Due: 5 p.m. ET 1/3/17.

Docket Numbers: RP17-276-000.

Applicants: Iroquois Gas Transmission System, L.P.

Description: Iroquois Gas Transmission System, L.P. submits tariff filing per 154.204: 12/20/16 Negotiated Rates—Hartree Partners, LP (HUB) 7090-89 to be effective 12/19/2016.

Filed Date: 12/20/16.

Accession Number: 20161220-5116.

Comments Due: 5 p.m. ET 1/3/17.

Docket Numbers: RP17-277-000.

Applicants: Iroquois Gas Transmission System, L.P.

Description: Iroquois Gas Transmission System, L.P. submits tariff filing per 154.204: 12/20/16 Negotiated Rates—Mercuria Energy America, Inc. (HUB) 7590-89 to be effective 12/19/2016.

Filed Date: 12/20/16.

Accession Number: 20161220-5119.

Comments Due: 5 p.m. ET 1/3/17.

Docket Numbers: RP17-278-000.

Applicants: Iroquois Gas Transmission System, L.P.

Description: Iroquois Gas Transmission System, L.P. submits tariff filing per 154.204: 12/20/16 Negotiated Rates—Cargill Incorporated (RTS) 3085-28 to be effective 1/1/2017.

Filed Date: 12/20/16.

Accession Number: 20161220-5298.

Comments Due: 5 p.m. ET 1/3/17.

Docket Numbers: RP17-279-000.

Applicants: Iroquois Gas Transmission System, L.P.

Description: Iroquois Gas Transmission System, L.P. submits tariff filing per 154.204: 12/20/16 Negotiated Rates—Mercuria Energy America, Inc. (RTS) 7540-09 to be effective 1/1/2017.

Filed Date: 12/20/16.

Accession Number: 20161220-5318.

Comments Due: 5 p.m. ET 1/3/17.

Docket Numbers: RP17-280-000.

Applicants: Iroquois Gas Transmission System, L.P.

Description: Iroquois Gas Transmission System, L.P. submits tariff filing per 154.204: 12/20/16 Negotiated Rates—Vitol Inc. (RTS) 7495-02 to be effective 1/1/2017.

Filed Date: 12/20/16.

Accession Number: 20161220-5319.

Comments Due: 5 p.m. ET 1/3/17.

Docket Numbers: RP16-1179-002.

Applicants: Equitrans, L.P.

Description: Equitrans, L.P. submits tariff filing per 154.203: Negotiated Rate Service Agreement—Revised EQT Energy OVC Agreement to be effective 10/1/2016.

Filed Date: 12/21/16.

Accession Number: 20161221-5081.

Comments Due: 5 p.m. ET 1/3/17.

Docket Numbers: RP17-281-000.

Applicants: Equitrans, L.P.

Description: Equitrans, L.P. submits tariff filing per 154.204: Negotiated Rate Service Agreement—K Petroleum to be effective 1/1/2017.

Filed Date: 12/21/16.

Accession Number: 20161221-5109.

Comments Due: 5 p.m. ET 1/3/17.

Docket Numbers: RP17-282-000.

Applicants: Portland Natural Gas Transmission System.

Description: Portland Natural Gas Transmission System submits tariff filing per 154.204: Housekeeping Updates to be effective 1/21/2017.

Filed Date: 12/21/16.

Accession Number: 20161221-5112.

Comments Due: 5 p.m. ET 1/3/17.

Docket Numbers: CP17-25-000.

Applicants: ANR Pipeline Company.

Description: Abbreviated Application for 7(b) Authorization to Abandon Rate Schedule X-132.

Filed Date: 12/26/16.

Accession Number: 20161216-5120.

Comments Due: 5 p.m. ET 12/27/17.

Docket Numbers: CP06-5-013.

Applicants: Empire Pipeline, Inc.

Description: Petition to further Amend its Certificate of Public Convenience and Necessity and Related authorizations.

Filed Date: 12/13/16.

Accession Number: 20161213-5311.

Comments Due: 5 p.m. ET 12/28/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2016.
Nathaniel J. Davis, Sr.,
Deputy Secretary.

[FR Doc. 2017-01918 Filed 1-27-17; 8:45 am]

BILLING CODE 6717-01-P